POSTAL SERVICE

Request for Comments on Revising and Updating Five-Year Strategic Plan, Pursuant to the Government Performance and Results Act of 1993

AGENCY: Postal Service.

ACTION: Request for comments.

SUMMARY: The Government Performance and Results Act of 1993 (GPRA) mandated, in 1997, that the Postal Service publish a five-year plan outlining its goals, targets, and strategies, and that the Postal Service update and revise its five-year plan at intervals of no less than three years. In so doing, GPRA states that the Postal Service must, as an aspect of its strategic planning process, solicit and consider the ideas, knowledge, and opinions of those potentially affected by or interested in its Five-Year Strategic Plan. This notice, therefore, asks for public comment concerning the development and drafting of the Postal Service's Five-Year Strategic Plan for fiscal years 2001-2005.

DATES: Comments must be received by May 15, 2000.

ADDRESSES: Written comments should be directed to Robert A.F. Reisner, Vice President, Strategic Planning, United States Postal Service, 475 L'Enfant Plaza SW, Washington, DC 20260-1520. Comments may also be sent to: stratpln@email.usps.gov.

FOR FURTHER INFORMATION CONTACT: Paul Van Coverden, (202) 268-8130.

SUPPLEMENTARY INFORMATION:

Statutory Background

The Government Performance and Results Act of 1993, Pub. L. 103-62 (GPRA), was enacted to make federal programs more effective and publicly accountable by requiring agencies to institute results-driven improvement efforts, service-quality metrics, and customer satisfaction programs. Other statutory goals were to improve Congressional decision making and the internal management of the United States Government, as cited in Pub. L. 103-62, sec. 2(b), 107 Stat. 285. Because of the Postal Service's role as an independent establishment of the Executive Branch of the Government of the United States, section 7 of the law establishes separate provisions which apply to the Postal Service (sections 2801-2805 of title 39, United States Code).

Section 2802 of title 39, United States Code, required that the Postal Service submit to the President and the Congress a strategic plan for its program activities, no later than September 30, 1997. Additionally, Section 2802 requires the Postal Service to update and revise its strategic plan at least every three years. The plan is to contain:

(1) A comprehensive mission statement covering the major functions and operations of the Postal Service.

(2) General goals and objectives, including outcome-related goals and objectives, for the major functions and operations of the Postal Service.

(3) A description of how the goals and objectives are to be achieved, including a description of the operational processes, skills, and technology, and the human, capital, information, and other resources required to meet the goals and objectives.

(4) A description of how the performance goals included in the annual performance plan required under section 2803 shall be related to the general goals and objectives in the strategic plan.

(5) An identification of the key factors that are external to the Postal Service and beyond its control which could significantly affect the achievement of the general goals and objectives.

(6) A description of the program evaluations used in establishing or revising general goals and objectives, with a schedule for future program evaluations. 39 U.S.C. 2802(a).

GPRA also requires the preparation of annual performance plans covering each program activity set forth in the Postal Service budget. 39 U.S.C. 2803. These plans link the organizational goals in the Strategic Plan with ongoing operations. Finally, the law requires the preparation of annual performance reports, which review and compare actual performance with the performance targets stated in the annual plans. 39 U.S.C. 2804.

In order to continue to involve the public in this planning process, GPRA also requires the Postal Service, as it develops each new iteration of the strategic plan, to “solicit and consider the views and suggestions of those entities potentially affected by or interested in such a plan, and shall advise the Congress of the contents of the plan.” 39 U.S.C. 2802(d).

Discussion of the Postal Service Mission, Vision, and Objectives

In 1970, the Congress enacted the Postal Reorganization Act, transforming the former Post Office Department into the United States Postal Service. Its intent was to ensure that the former department became a self-sustaining federal entity that operates more like a business. While fulfilling its basic mission of providing universal service at an affordable price, the Postal Service as a unique government enterprise would also focus more clearly on the needs of all its customers than had its predecessor Executive Branch department.

The Postal Reorganization Act states that the Postal Service shall have the “basic and fundamental” responsibility to provide postal services to bind the nation together through the personal, educational, literary, and business correspondence of the people. Prompt, reliable, and efficient postal services, the legislation mandates, shall be extended to patrons in all areas and to all communities.

In recent years, the historic mission of the Postal Service, as described in section 101 of title 39, United States Code, has been amplified by an organizational statement of purpose, published most recently in the Preliminary Annual Performance Plan for 2001. That statement describes the Postal Service's role as one “to provide every household and business across the United States with the ability to communicate and conduct business with each other and the world through prompt, reliable, secure and economic services” for the collection, transportation, and delivery of messages, merchandise, and money.

A vision statement, published most recently in the Preliminary Annual Performance Plan for 2001, describes the strategic direction the Postal Service intends to take in order to continue to achieve its mission and statement of purpose. The vision statement says, “Within the decade ahead, the Postal Service must be transformed into a high-performing enterprise, able to compete with agile competitors, to be responsive to more sophisticated customer demands, and to establish goals aligned with the vision of becoming the service customers choose to use, rather than have to use. All employees must have appropriate incentives and tools, not only to service their customers, but to meet or exceed competitors' offerings. We must, in short, develop an operationally excellent, financially sound, performance-based culture and mindset. Given our expectations and beliefs about the future marketplace, it is imperative that the Postal Service achieve a state of operational excellence and competitive performance so high that a partial loss of the letter monopoly would not make a difference to our ability to serve customers and to our success.”

Solicitation of Comments

The United States Postal Service solicits comment on core statements that seek to interpret the Postal Service's statutory mission in a 21st century market context. Specifically, it asks for stakeholder comment on:

(1) The Postal Service role and responsibility to provide “universal service” and what that should entail.

(2) The scope of postal services necessary and appropriate “to bind the nation together.”

(3) The impact of the development of new technologies on the public service objectives of universal service, and whether those objectives might be achieved through alternative means.

(4) The Postal Service vision of the necessity to transform itself into a high-performing, agile, customer-responsive enterprise able to compete in a re-regulated future business environment.

(5) Steps for improving the businesslike operation of the Postal Service.

(6) Other topics relating to the competitive, customer, regulatory, technology, and organizational dimensions of the postal business environment as they may affect the Postal Service's mission, statement of purpose, and vision.

The Postal Service also invites comment on its long-range organizational goals, or objectives, published most recently in the Preliminary Annual Performance Plan for 2001. The Postal Service has employed long-range goals, or objectives, as part of a strategic planning process for nearly two decades, along with systematic assessments of performance. Since 1994, when the Postal Service applied the Malcolm Baldrige National Quality Award criteria to create its CustomerPerfect! performance management system, the Postal Service has used process management tools and an annual cycle of goal definition, deployment, review, and assessment to improve organizational performance by revising and updating goals and strategies. The input of the public will support and enhance both the performance management process and the new Five-Year Strategic Plan.

Specifically, the Postal Service solicits stakeholder comment on the following long-range organizational goals:

(1) Voice of the Customer goal: To earn customers' business in a marketplace where they have choices by providing them with world-class quality at competitive prices.

(2) Voice of the Employee goal: To foster an inclusive and welcoming workplace consistent with Postal Service values of fairness, opportunity, safety, and security; where everyone is given the knowledge, tools, training, and encouragement to be successful; and where everyone is recognized for and takes pride in their participation in customers' and the Postal Service's success.

(3) Voice of the Business goal: To generate financial performance that assures the commercial viability of the Postal Service as a service provider in a changing, competitive marketplace, and generate cash flow to finance high-yield investments for the future while providing competitively priced products and services.

Any comments pertaining to the means by which the Postal Service can best achieve these goals are welcome. Comments on other aspects of strategic planning, goal-definition, and performance measurement are also welcome.

This request for comments initiates a formal process for the development of the 2001-2005 Five-Year Strategic Plan and offers an opportunity for stakeholder comments to be given careful consideration in the development of the plan's goals, targets, and strategies. While its May 15 deadline corresponds with a need and requirement for formality in the development of this plan, the strategic planning process itself is continuous and welcomes ongoing input from all stakeholders in the development of annual business environmental assessments, annual performance plans, and annual performance reports.

Stanley F. Mires,
Chief Counsel, Legislative.

[FR Doc. 00-8281 Filed 4-4-00; 8:45 am]

BILLING CODE 7710-12-P